DEPARTMENT OF ENERGY

Federal Energy Regulatory Commission

Combined Notice of Filings #1

Take notice that the Commission received the following electric rate filings:

Docket Numbers: ER10-2960-006; ER10-1618-006; ER10-1616-006; ER10-1598-006; ER10-1595-006.

Applicants: Astoria Generating Company, L.P., Crete Energy Venture, LLC, Lincoln Generating Facility, LLC, New Covert Generating Company, LLC, Rolling Hills Generating, L.L.C.

Description: Supplement to May 31, 2016 Notice of Non-Material Change in Status of Astoria Generating Company, L.P., et al.

Filed Date: 7/20/16.

Accession Number: 20160720-5162.

Comments Due: 5 p.m. ET 8/10/16.

Docket Numbers: ER16-1443-000.

Applicants: NRG Power Midwest LP.

Description: Report Filing: Refund Report—Informational Filing to be effective N/A.

Filed Date: 7/20/16.

Accession Number: 20160720-5062.

Comments Due: 5 p.m. ET 8/10/16.

Docket Numbers: ER16-1638-001.

Applicants: 4C Acquisition, LLC.

Description: Tariff Amendment: Response to Request for Additional Information of 4CA to be effective 8/4/2016.

Filed Date: 7/20/16.

Accession Number: 20160720-5131.

Comments Due: 5 p.m. ET 8/10/16.

Docket Numbers: ER16-2252-000.

Applicants: Antelope DSR 1, LLC.

Description: Baseline eTariff Filing: Antelope DSR 1, LLC Co-Tenancy Agreement to be effective 8/1/2016.

Filed Date: 7/20/16.

Accession Number: 20160720-5124.

Comments Due: 5 p.m. ET 8/10/16.

Docket Numbers: ER16-2253-000.

Applicants: Antelope DSR 2, LLC.

Description: Baseline eTariff Filing: Antelope DSR 2, LLC Co-Tenancy Agreement to be effective 8/1/2016.

Filed Date: 7/20/16.

Accession Number: 20160720-5126.

Comments Due: 5 p.m. ET 8/10/16.

Docket Numbers: ER16-2254-000.

Applicants: Antelope DSR 3, LLC.

Description: Baseline eTariff Filing: Antelope DSR 3, LLC Co-Tenancy Agreement to be effective 8/1/2016.

Filed Date: 7/20/16.

Accession Number: 20160720-5127.

Comments Due: 5 p.m. ET 8/10/16.

Docket Numbers: ER16-2255-000.

Applicants: Elevation Solar C LLC.

Description: Baseline eTariff Filing: Elevation Solar C LLC Co-Tenancy Agreement to be effective 8/1/2016.

Filed Date: 7/20/16.

Accession Number: 20160720-5128.

Comments Due: 5 p.m. ET 8/10/16.

Docket Numbers: ER16-2256-000.

Applicants: Solverde 1, LLC.

Description: Baseline eTariff Filing: Solverde 1, LLC Co-Tenancy Agreement to be effective 8/1/2016.

Filed Date: 7/20/16.

Accession Number: 20160720-5129.

Comments Due: 5 p.m. ET 8/10/16.

Docket Numbers: ER16-2257-000.

Applicants: Western Antelope Blue Sky Ranch B LLC.

Description: Baseline eTariff Filing: Western Antelope Blue Sky Ranch B LLC Co-Tenancy Agreement to be effective 8/1/2016.

Filed Date: 7/20/16.

Accession Number: 20160720-5130.

Comments Due: 5 p.m. ET 8/10/16.

Docket Numbers: ER16-2258-000.

Applicants: Southwest Power Pool, Inc.

Description: Section 205(d) Rate Filing: Gas-Electric Coordination Provisions Clean-Up and Effective Date Change to be effective 9/30/2016.

Filed Date: 7/20/16.

Accession Number: 20160720-5132.

Comments Due: 5 p.m. ET 8/1/16.

Docket Numbers: ER16-2259-000.

Applicants: WSPP Inc.

Description: Section 205(d) Rate Filing: Normal filing Schedule Q 2016 to be effective 8/3/2016.

Filed Date: 7/21/16.

Accession Number: 20160721-5015.

Comments Due: 5 p.m. ET 8/11/16.

Docket Numbers: ER16-2260-000.

Applicants: PJM Interconnection, L.L.C., American Municipal Power, Inc., Duke Energy Ohio, Inc.

Description: Section 205(d) Rate Filing: Revised Service Agreement No. 4264—NITSA between PJM and AMP to be effective 1/1/2016.

Filed Date: 7/21/16.

Accession Number: 20160721-5041.

Comments Due: 5 p.m. ET 8/11/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the eFiling is encouraged. More detailed information relating to filing requirements, interventions, protests, service, and qualifying facilities filings can be found at: http://www.ferc.gov/docs-filing/efiling/filing-req.pdf. For other information, call (866) 208-3676 (toll free). For TTY, call (202) 502-8659.

Dated: July 21, 2016.
Nathaniel J. Davis, Sr.,
Deputy Secretary.

[FR Doc. 2016-17834 Filed 7-27-16; 8:45 am]

BILLING CODE 6717-01-P